DEPARTMENT OF JUSTICE

Notice of Lodging of Consent Decree Pursuant to the Clean Air Act

Notice is hereby given that on August 21, 2008, a proposed consent decree in United States and the State of Illinois v. Crane Composites, Inc., No. 08cv4735, was lodged with the United States District Court for the Northern District of Illinois.

In this civil action brought pursuant to the Clean Air Act, 42 U.S.C. 7613, the United States sought to prevent the emission of volatile organic material (“VOM”) in excess of limits imposed by the Illinois State Implementation Plan and the facility's air emission permit issued under Title V of the Act from the Crane Composites, Inc. fiberglass reinforced plastics manufacturing facility in Channahon, Will County, Illinois. The State of Illinois joined this action as co-plaintiff asserting the same claims under the equivalent state laws and regulations. Under the proposed consent decree, Crane Composites will install a permanent total enclosure to capture 100% of its off-gases from its production lines and route those gases to a regenerative thermal oxydizer that will destroy 95% of the VOM and hazardous air pollutants before release to the atmosphere. Under the proposed consent decree, defendant will pay a total of $1,000,000 in civil penalties, divided between the United States (which will receive $800,000) and the State of Illinois. In addition, the proposed consent decree will resolve Crane Composites' past obligations under the Illinois Emission Reduction Market System with a payment to the State of no more than $150,000.

The Department of Justice will accept comments relating to the four proposed consent decrees for a period of thirty (30) days from the date of publication of this notice. Comments should be addressed to the Assistant Attorney General, Environment and Natural Resources Division, and mailed either electronically to pubcomment-ees.enrd@usdoj.gov or in hard copy to P.O. Box 7611, U.S. Department of Justice, Washington, DC 20044-7611. Comments should refer to United States and the State of Illinois v. Crane Composites, Inc., Case No. 08cv4735 (N.D. Ill.) and D.J. Reference No. 90-5-2-1-08836.

The proposed consent decree may be examined at: (1) The Office of the United States Attorney for the Northern District of Illinois, 219 South Dearborn Street, Suite 500, Chicago, Illinois 60604, (312) 353-5300; and (2) the United States Environmental Protection Agency (Region 5), 77 West Jackson Boulevard, Chicago, Illinois 60604-3590 (contact Gaylene Vasaturo (312-886-1811)). During the comment period, the proposed consent decrees may also be examined on the following Department of Justice Web site: http://www.usdoj.gov/enrd/Consent_Decree.html . Copies of the proposed consent decrees may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please refer to the referenced case and D.J. Reference No. 90-5-2-1-08836, and enclose a check in the amount of $11.50 for the consent decrees (46 pages at 25 cents per page reproduction costs), made payable to the U.S. Treasury.

William D. Brighton,
Assistant Chief, Environmental Enforcement Section, Environment and Natural Resources Division.

[FR Doc. E8-19818 Filed 8-26-08; 8:45 am]

BILLING CODE 4410-15-P